NUCLEAR REGULATORY COMMISSION

[Docket No. 50-201]

Decommissioning Criteria for the West Valley Demonstration Project (M-32), and the West Valley Site Revised Comment Period on Draft Policy Statement

AGENCY: Nuclear Regulatory Commission.

ACTION: Notice of revised comment period.

SUMMARY: On December 3, 1999, the U.S. Nuclear Regulatory Commission (NRC) published in the Federal Register a draft Policy Statement on the criteria to be used for decommissioning the West Valley Demonstration Project and West Valley Site. The NRC requested that comments on the draft Policy Statement be submitted by February 1, 2000. A public meeting to discuss the draft policy statement for the decommissioning criteria for West Valley with interested members of the public was held in West Valley, New York, on January 5, 2000. As a result of comments from the public the NRC is reopening the comment period until April 1, 2000. Comments received after this date will be considered if it is practical to do so, but NRC will only be able to assure consideration of comments received on or before this date.

FOR FURTHER INFORMATION CONTACT: Questions with respect to this action should be referred to Jack D. Parrott, Project Scientist, Decommissioning Branch, Division of Waste Management, Office of Nuclear Material Safety and Safeguards, Mail Stop T-8F37, U.S. Nuclear Regulatory Commission, Washington, DC 20555-0001. Telephone: (301) 415-6700; e-mail: jdp1@nrc.gov.

Dated at Rockville, Maryland, this 14th day of February 2000.
For the U.S. Nuclear Regulatory Commission.
Larry W. Camper,
Chief, Decommissioning Branch, Division of Waste Management, Office of Nuclear Material Safety and Safeguards.

[FR Doc. 00-4354 Filed 2-23-00; 8:45 am]

BILLING CODE 7590-01-P